DEPARTMENT OF ENERGY

Federal Energy Regulatory Commission

Combined Notice of Filings # 1

May 28, 2008.

Take notice that the Commission received the following electric corporate filings:

Docket Numbers: EC08-92-000.

Applicants: Lowell Cogeneration Company Limited Partnership.

Description: Lowell Cogeneration Company Limited Partnership submits Application for Authorization for Disposition of Jurisdictional Facilities and Request for Expedited Action.

Filed Date: 05/21/2008.

Accession Number: 20080527-0048.

Comment Date: 5 p.m. Eastern Time on Wednesday, June 11, 2008.

Take notice that the Commission received the following exempt wholesale generator filings:

Docket Numbers: EG08-74-000.

Applicants: Happy Jack Windpower, LLC.

Description: Self Certification Notice as an Exempt Wholesale Generator of Happy Jack Windpower, LLC.

Filed Date: 05/21/2008.

Accession Number: 20080521-5075.

Comment Date: 5 p.m. Eastern Time on Wednesday, June 11, 2008.

Take notice that the Commission received the following electric rate filings:

Docket Numbers: ER05-6-106; EL04-135-109; EL02-111-126; EL03-212-122.

Applicants: Midwest ISO.

Description: Jersey Central Power and Light Company's CD et al. containing Stipulation and Agreement, Explanatory Statement.

Filed Date: 05/21/2008.

Accession Number: 20080521-4033.

Comment Date: 5 p.m. Eastern Time on Wednesday, June 11, 2008.

Docket Numbers: ER05-168-004; ER06-274-009; EL05-19-005.

Applicants: Southwestern Public Service Company.

Description: Golden Spread Electric Coop, Inc., et al. submits Substitute First Revised Sheet 12 et al to FERC Rate Schedule 132.

Filed Date: 05/21/2008.

Accession Number: 20080527-0069.

Comment Date: 5 p.m. Eastern Time on Wednesday, June 11, 2008.

Docket Numbers: ER05-1255-002; ER95-1374-019.

Applicants: Horizon Power, Inc.; National Fuel Resources, Inc.

Description: National Fuel Resources, Inc., submits an explanation of why Horizon Power, Inc., et al. qualify as Category 1 Sellers of wholesale electricity in the Northeast region of the United States and in all other regions specified.

Filed Date: 05/22/2008.

Accession Number: 20080523-0092.

Comment Date: 5 p.m. Eastern Time on Thursday, June 12, 2008.

Docket Numbers: ER07-940-002.

Applicants: Midwest Independent Transmission System, PJM Interconnection, L.L.C.

Description: PJM Interconnection, L.L.C and the Midwest ISO submits a Compliance Filing with the directive that the RTOs indicate the NERC's approved termination date of the twelve-month market flow threshold field test pursuant to the 5/15/08 Order.

Filed Date: 05/22/2008.

Accession Number: 20080523-5037.

Comment Date: 5 p.m. Eastern Time on Thursday, June 12, 2008.

Docket Numbers: ER08-169-003.

Applicants: Midwest Independent Transmission System Operator, Inc.

Description: Midwest Independent Transmission System Operator, Inc., submits an proposed to Attachment P of the Midwest ISO's Open Access Transmission and Energy Markets Tariff, FERC Electric Tariff, Third Revised Volume 1 etc.

Filed Date: 05/22/2008.

Accession Number: 20080523-0094.

Comment Date: 5 p.m. Eastern Time on Thursday, June 12, 2008.

Docket Numbers: ER08-340-001.

Applicants: Southwest Power Pool, Inc.

Description: Southwest Power Pool, Inc., submits compliance filing providing for revisions to its Open Access Transmission Tariff.

Filed Date: 05/21/2008.

Accession Number: 20080527-0038.

Comment Date: 5 p.m. Eastern Time on Wednesday, June 11, 2008.

Docket Numbers: ER08-404-002.

Applicants: Midwest Independent Transmission System.

Description: Midwest Independent Transmission System Operator, Inc., submits an proposed revisions to its Open Access Transmission and Energy Markets Tariff.

Filed Date: 05/22/2008.

Accession Number: 20080523-0093.

Comment Date: 5 p.m. Eastern Time on Thursday, June 12, 2008.

Docket Numbers: ER08-413-003.

Applicants: Startrans IO, L.L.C.

Description: Startrans IO, LLC submits updated Statements AV and BK reflecting their updated capital structure and transmission revenue requirement.

Filed Date: 05/21/2008.

Accession Number: 20080527-0037.

Comment Date: 5 p.m. Eastern Time on Wednesday, June 11, 2008.

Docket Numbers: ER08-720-001.

Applicants: Consolidated Edison Co. of New York, Inc.

Description: Consolidated Edison Company of New York, Inc., informs FERC that they were contacted by the Commission Staff concerning the issue of conforming the Power Purchase Agreement to the requirements of Order 614.

Filed Date: 05/22/2008.

Accession Number: 20080523-0095.

Comment Date: 5 p.m. Eastern Time on Thursday, June 12, 2008.

Docket Numbers: ER08-995-000.

Applicants: Southwest Power Pool.

Description: Southwest Power Pool, Inc., proposes to revise portions of its Open Access Transmission Tariff relating to its real-time energy imbalance service market.

Filed Date: 05/21/2008.

Accession Number: 20080527-0068.

Comment Date: 5 p.m. Eastern Time on Wednesday, June 11, 2008.

Docket Numbers: ER08-996-000.

Applicants: CBA Endeavors, LLC.

Description: CBA Endeavors, LLC submits a petition for acceptance of FERC Electric Tariff, Original Volume 1.

Filed Date: 05/21/2008.

Accession Number: 20080527-0065.

Comment Date: 5 p.m. Eastern Time on Wednesday, June 11, 2008.

Docket Numbers: ER08-997-000.

Applicants: Westar Energy, Inc.

Description: Westar Energy, Inc., submits their Seventh Revised Sheet 4 and 1 to the Wholesale Electric Service Agreement, designated as First Revised Rate Schedule 233.

Filed Date: 05/21/2008.

Accession Number: 20080527-0064.

Comment Date: 5 p.m. Eastern Time on Wednesday, June 11, 2008.

Docket Numbers: ER08-998-000.

Applicants: Westar Energy, Inc.

Description: Westar Energy, Inc., submits their Petition for Approval of Settlement Agreement.

Filed Date: 05/21/2008.

Accession Number: 20080527-0050.

Comment Date: 5 p.m. Eastern Time on Wednesday, June 11, 2008.

Docket Numbers: ER08-999-000.

Applicants: Northeast Utilities Service Company.

Description: Connecticut Light and Power Company submits the executed Design, Engineering, and Procurement Agreement for Baldwin Substation Improvements by and between CL&P and Waterbury Generation LLC.

Filed Date: 05/22/2008.

Accession Number: 20080523-0100.

Comment Date: 5 p.m. Eastern Time on Thursday, June 12, 2008.

Docket Numbers: ER08-1000-000.

Applicants: Maine Public Service Company.

Description: Maine Public Service Company submits proposed revisions to its FERC Open Access Transmission Tariff.

Filed Date: 05/22/2008.

Accession Number: 20080523-0099.

Comment Date: 5 p.m. Eastern Time on Thursday, June 12, 2008.

Docket Numbers: ER08-1001-000.

Applicants: Ameren Services Company.

Description: Central Illinois Public Service Company submits an executed service agreement for Wholesale Distribution Service with Wabash Valley Power Association, Inc., as agent for MJM Electric Cooperative, Inc.

Filed Date: 05/22/2008.

Accession Number: 20080523-0098.

Comment Date: 5 p.m. Eastern Time on Thursday, June 12, 2008.

Docket Numbers: ER08-1002-000.

Applicants: Westar Energy, Inc.

Description: Westar Energy, Inc., et al. submits Second Revised Sheet 1 and 11 to First Revised Rate Schedule FERC 168, the electric Power Supply Agreement, dated 2/3/88 etc.

Filed Date: 05/22/2008.

Accession Number: 20080523-0097.

Comment Date: 5 p.m. Eastern Time on Thursday, June 12, 2008.

Docket Numbers: ER08-1003-000.

Applicants: Oklahoma Gas and Electric Company.

Description: Oklahoma Gas and Electric Company submits Amended and Restated Network Integration Transmission Service Agreement, dated 4/28/08 between OG&E and the Purcell Public Works Authority.

Filed Date: 05/22/2008.

Accession Number: 20080523-0096.

Comment Date: 5 p.m. Eastern Time on Thursday, June 12, 2008.

Take notice that the Commission received the following electric securities filings:

Docket Numbers: ES08-50-000.

Applicants: Aquila, Inc.

Description: Application of Aquila, Inc. for Authorization of Issuance of Long-Term Debt Securities Under Section 204 of the Federal Power Act.

Filed Date: 05/22/2008.

Accession Number: 20080523-5002.

Comment Date: 5 p.m. Eastern Time on Thursday, June 12, 2008.

Take notice that the Commission received the following foreign utility company status filings:

Docket Numbers: FC08-3-000.

Applicants: Arasmeta Captive Power Company Private L.

Description: Self Certification Notice of Arasmeta Captive Power Company Private Limited.

Filed Date: 05/22/2008.

Accession Number: 20080522-5034.

Comment Date: 5 p.m. Eastern Time on Thursday, June 12, 2008.

Docket Numbers: FC08-4-000.

Applicants: Sitapuram Power Limited.

Description: Notification of Self-Certification of Foreign Utility Company Status of Sitapuram Power Limited.

Filed Date: 05/22/2008.

Accession Number: 20080522-5036.

Comment Date: 5 p.m. Eastern Time on Thursday, June 12, 2008.

Docket Numbers: FC08-5-000.

Applicants: Regency Power Corporation Private Limited.

Description: Notice of Self-Certification of Foreign Utility Company Status of Regency Power Corporation Private Limited.

Filed Date: 05/22/2008.

Accession Number: 20080522-5041.

Comment Date: 5 p.m. Eastern Time on Thursday, June 12, 2008.

Take notice that the Commission received the following open access transmission tariff filings:

Docket Numbers: OA07-100-001.

Applicants: Black Hills Power, Inc.

Description: Black Hills Power submits compliance filing to make two modifications to Attachment C.

Filed Date: 05/22/2008.

Accession Number: 20080523-0091.

Comment Date: 5 p.m. Eastern Time on Thursday, June 12, 2008.

Docket Numbers: OA08-54-002; OA08-55-002; OA08-56-002; OA08-57-002; OA08-99-001; OA08-118-000.

Applicants: Deseret Generation & Transmission Co-op.; Idaho Power Company; NorthWestern Corporation; PacifiCorp; Black Hills Power, Inc.; Portland General Electric Company.

Description: Deseret Generation & Transmission Co-operative, Inc et al. submits modifications to Rate Schedule FERC 23 et al. to reflect the addition of an additional party, Horizon Wind Energy etc.

Filed Date: 05/22/2008.

Accession Number: 20080527-0031.

Comment Date: 5 p.m. Eastern Time on Thursday, June 12, 2008.

Take notice that the Commission received the following public utility holding company filings:

Docket Numbers: PH08-27-000.

Applicants: Sendero SMGC Limited Acquisition Company.

Description: FERC-65A Exemption Notification of Sendero SMGC Limited Acquisition Company, LLC.

Filed Date: 05/22/2008.

Accession Number: 20080522-5000.

Comment Date: 5 p.m. Eastern Time on Thursday, June 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-12698 Filed 6-5-08; 8:45 am]

BILLING CODE 6717-01-P